DEPARTMENT OF ENERGY

Federal Energy Regulatory Commission

[Docket No. GT02-8-000]

PG&E Gas Transmission, Northwest Corporation; Notice of Refund Report

January 31, 2002.

Take notice that on January 25, 2002, PG&E Gas Transmission, Northwest Corporation (GTN) tendered for filing a Refund Report for interruptible transportation revenue credits on its Coyote Springs Extension.

GTN states that it refunded $625.75 to Portland General Electric Company, the sole eligible firm shipper on the Coyote Springs Extension, by credit billing adjustment on January 11, 2002.

GTN further states that a copy of this filing has been served on all affected customers and interested state regulatory agencies.

Any person desiring to be heard or to protest said filing should file a motion to intervene or a protest with the Federal Energy Regulatory Commission, 888 First Street, N.E., Washington, D.C. 20426, in accordance with sections 385.214 or 385.211 of the Commission's Rules and Regulations. All such motions or protests must be filed on or before February 7, 2002. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-2777 Filed 2-5-02; 8:45 am]

BILLING CODE 6717-01-P